DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announces the following committee Conference Call Meeting:

Name: National Center for Injury Prevention and Control (NCIPC) Initial Review Group (IRG).

Time and Date: 1 p.m.-2 p.m., May 7, 2004.

Place: National Center for Injury Prevention and Control, CDC, 2945 Flowers Road, Atlanta, Georgia 30341.

Status: Open: 1 p.m.-1:10 p.m., May 7, 2004.

Closed: 1:10 p.m.-2 p.m., May 7, 2004.

Purpose: This group is charged with providing advice and guidance to the Secretary, Department of Health and Human Services, and the Director, CDC, concerning the scientific and technical merit of grant and cooperative agreement applications received from academic institutions and other public and private profit and nonprofit organizations, including State and local government agencies, to conduct specific injury research that focuses on prevention and control and supports Injury Control Research Centers (ICRCs).

Matters To Be Discussed: Agenda items include an explanation of the call's purpose, panelists' responsibilities, and discussion and vote on the results of an April 27-28, 2004, site visit review of an ICRC application submitted in response to Program Announcement #04057. From 1:10-2 p.m., the Group will discuss details of the site visit and vote on the results. This portion of the meeting will be closed to the public in accordance with provisions set forth in section 552b(c)(4) and (6), title 5 U.S.C., and the Determination of the Director, Management Analysis and Services Office, CDC, pursuant to Pub. L. 92-463.

Agenda items are subject to change as priorities dictate.

Contact Person for More Information: Gwendolyn H. Cattledge, Ph.D., M.S.E.H., Executive Secretary, NCIPC IRG, CDC, 4770 Buford Highway, NE., M/S K02, Atlanta, Georgia 30341-3724, telephone 770/488-4655.

The Director, Management Analysis and Services office has been delegated the authority to sign Federal Register notices pertaining to announcements of meetings and other committee management activities for both the Centers for Disease Control and Prevention and the Agency for Toxic Substances and Disease Registry.

Dated: April 28, 2004.
Alvin Hall,
Director, Management Analysis and Services Office, Centers for Disease Control and Prevention.

[FR Doc. 04-10048 Filed 5-3-04; 8:45 am]

BILLING CODE 4163-18-P